DEPARTMENT OF COMMERCE

International Trade Administration

University of Colorado, Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-002. Applicant: University of Colorado, JILA, Boulder, CO 80309-0440. Instrument: DFB Fiber Laser with Amplifier, Model Y10. Manufacturer: Koheras A/S, Denmark. Intended Use: See notice at 68 FR 6415, February 7, 2003.

Comments: None received. Decision: Approved. No instrument of equivalent scientific value to the foreign instrument, for such purposes as it is intended to be used, is being manufactured in the United States. Reasons: The foreign instrument provides 1.0 W of laser light at the vacuum wavelength of 1126.275 nm with a linewidth of less than 20 kHz to probe the super narrow transition in a single trapped and laser cooled mercury ion for development of stable optical frequency standards. A domestic manufacturer of similar equipment advised March 25, 2003, that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-8237 Filed 4-3-03; 8:45 am]

BILLING CODE 3510-DS-P